DEPARTMENT OF THE INTERIOR

Bureau of Land Management

[MT-926-07-1420-BJ-TRST]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, 30 days from the date of publication in the Federal Register.

FOR FURTHER INFORMATION CONTACT: Martin Bonorden, Cadastral Surveyor, Branch of Cadastral Survey, Bureau of Land Management, 5001 Southgate Drive, Billings, Montana, 59101-4669, telephone (701) 227-7730 or (406) 896-5009.

SUPPLEMENTARY INFORMATION: This survey, executed at the request of the Crow Agency, through the Rocky Mountain Regional Director, Bureau of Indian Affairs, Billings, Montana, was necessary to determine Trust and Tribal land.

The lands we surveyed are:

Principal Meridian, Montana

T. 4 S., R. 32 E.

The plat, in 1 sheet, representing the dependent resurvey of a portion of the subdivisional lines and the adjusted original meanders of the former left bank of the Big Horn River, downstream, through sections 14, 15, 22, and 23, the subdivision of sections 14, 15, and 22, and the survey of the meanders of the present left bank of the Big Horn River, downstream, through sections 14, 15, and 22, and certain division of accretion lines in sections 14, 15, and 22, Township 4 South, Range 32 East, Principal Meridian, Montana, was accepted September 28, 2006.

We will place copies of the plat, in 1 sheet, and related field notes we described in the open files. They will be available to the public as a matter of information.

If BLM receives a protest against this survey, as shown on the plat, in 1 sheet, prior to the date of the official filing, we will stay the filing pending our consideration of the protest.

We will not officially file this plat, in 1 sheet, until the day after we have accepted or dismissed all protests and they have become final, including decisions or appeals.

Dated: October 18, 2006.
Thomas M. Deiling,
Chief Cadastral Surveyor, Division of Resources.

[FR Doc. E6-17748 Filed 10-23-06; 8:45 am]

BILLING CODE 4310-$$-P